Title 3—

The President

Proclamation 7327 of July 1, 2000

Spirit of the ADA Month, 2000

By the President of the United States of America

A Proclamation

The enactment of the Americans with Disabilities Act (ADA) 10 years ago this month signaled a transformation in our Nation's public policies toward people with disabilities. America is now a dramatically different—and better—country because of the ADA.

In the last 10 years, we have worked hard to eliminate harmful stereotypes and have grown to understand disability as a natural part of the human experience. We are taking steps, such as renovating and constructing public accommodations to make them fully accessible, to ensure that people with disabilities are fully integrated into our communities and workplaces. And we have come to appreciate that people with disabilities are a key element—and an untapped resource—in sustaining our Nation's historic economic growth.

Throughout our Administration, Vice President Gore and I have worked hard to achieve the ADA's core goals—equality of opportunity, full participation, independent living, and economic self-sufficiency. Our Administration has vigorously defended the ADA in court cases across the Nation; we are collaborating with State Medicaid directors to implement the Supreme Court's 1999 Olmstead decision, which prohibits unjustified isolation of institutionalized persons with disabilities; we helped ensure that 80 percent of America's public transit buses are now accessible; we are implementing the Ticket to Work and Work Incentives Improvement Act, which I proudly signed into law last December; we have worked closely with schools and colleges to improve the enrollment, retention, and graduation of students with disabilities; and my Task Force on Employment of Adults with Disabilities is developing far-reaching policies for a comprehensive, coordinated employment agenda.

We still have much to accomplish. Because the many barriers confronting people with disabilities took generations to develop, breaking them down requires consistent, coordinated, and farsighted effort. We must work aggressively to increase the employment rates of people with disabilities by attacking a range of work disincentives, including barriers to education, health care, technology, housing, and transportation. We must provide real choices for people with disabilities to live and work in their communities with the necessary services and supports. And we must be vigilant in protecting the rights we have secured through decades of legal activism. I am encouraged that the first 10 years of the ADA's life have provided us with a solid foundation for meeting these challenges.

To mark the ADA's 10th anniversary and the 25th anniversary of the Individuals with Disabilities Education Act (IDEA), the American Association of People with Disabilities has organized a nationwide “Spirit of ADA” Torch Relay. Twenty-four cities from coast to coast are hosting official relay events, and hundreds of communities are organizing additional local events as part of this national celebration. The Spirit of ADA's organizing theme is “Renew the Pledge” to encourage individuals, organizations, and government entities to reaffirm their commitment to the principles of the ADA and IDEA. Vice President Gore and I are proud to join in the celebration and to renew our own pledge to help advance the cause of disability rights.

Promoting disability rights not only improves the lives of the 54 million Americans with disabilities, it improves all of our lives. As President Franklin Roosevelt recognized more than 60 years ago, in words that are now inscribed on the FDR Memorial in our Nation's capital: “No Country, however rich, can afford the waste of its human resources.”

NOW, THEREFORE, I, WILLIAM J. CLINTON, President of the United States of America, by virtue of the authority vested in me by the Constitution and laws of the United States, do hereby proclaim July 2000 as Spirit of the ADA Month, 2000. I urge government officials, business people, community leaders, educators, and all the people of the United States, to celebrate the contributions people with disabilities have made, and continue to make, to the progress and prosperity of our Nation, and to renew our commitment to upholding the nondiscrimination principles of the ADA and IDEA.

IN WITNESS WHEREOF, I have hereunto set my hand this first day of July, in the year of our Lord two thousand, and of the Independence of the United States of America the two hundred and twenty-fourth.

wj

[FR Doc. 00-17386

Filed 7-6-00; 8:45 am]

Billing code 3195-01-P